DEPARTMENT OF ENERGY

Federal Energy Regulatory Commission

Combined Notice of Filings #1

Take notice that the Commission received the following electric corporate filings:

Docket Numbers: EC24-101-000.

Applicants: Babbitt Ranch Energy Center, LLC, Bronco Plains Wind II, LLC, Clearwater Wind III, LLC, Wadley Solar, LLC, Washington County Solar, LLC, Clearwater Energy Resources LLC, BIP Naples BorrowerCo VCOC L.L.C., BX Naples BorrowerCo L.L.C.

Description: Joint Application for Authorization Under Section 203 of the Federal Power Act of Babbitt Ranch Energy Center, LLC, et al.

Filed Date: 7/10/24.

Accession Number: 20240710-5202.

Comment Date: 5 p.m. ET 7/31/24.

Take notice that the Commission received the following electric rate filings:

Docket Numbers: ER23-912-001.

Applicants: Sun Streams Expansion, LLC.

Description: Notice of Non-Material Change in Status of Sun Streams Expansion, LLC.

Filed Date: 7/12/24.

Accession Number: 20240712-5122.

Comment Date: 5 p.m. ET 8/2/24.

Docket Numbers: ER24-255-001.

Applicants: CPV Stagecoach Solar, LLC.

Description: Notice of Change in Status of CPV Stagecoach Solar, LLC.

Filed Date: 7/12/24.

Accession Number: 20240712-5117.

Comment Date: 5 p.m. ET 8/2/24.

Docket Numbers: ER24-1831-001.

Applicants: Alabama Power Company, Georgia Power Company, Mississippi Power Company.

Description: Tariff Amendment: Alabama Power Company submits tariff filing per 35.17(b): Deficiency Response-OATT Attach M&N Amend-Address Regulatory Assets&Liabilities to be effective 5/1/2024.

Filed Date: 7/12/24.

Accession Number: 20240712-5137.

Comment Date: 5 p.m. ET 8/2/24.

Docket Numbers: ER24-2028-001.

Applicants: Ameren Transmission Company of Illinois.

Description: Tariff Amendment: Amendment Filing to be effective 5/17/2024.

Filed Date: 7/12/24.

Accession Number: 20240712-5033.

Comment Date: 5 p.m. ET 8/2/24.

Docket Numbers: ER24-2105-001.

Applicants: PJM Interconnection, L.L.C.

Description: Tariff Amendment: Amendment of ER24-2105-000, Original NSA No. 7248, AC2-015 to be effective 7/28/2024.

Filed Date: 7/11/24.

Accession Number: 20240711-5173.

Comment Date: 5 p.m. ET 8/1/24.

Docket Numbers: ER24-2449-001.

Applicants: PJM Interconnection, L.L.C.

Description: Tariff Amendment: Amendment to ER24-2449-000, Original NSA No. 7300, AC1-164 to be effective 9/1/2024.

Filed Date: 7/12/24.

Accession Number: 20240712-5045.

Comment Date: 5 p.m. ET 8/2/24.

Docket Numbers: ER24-2505-000.

Applicants: Solar Star 3, LLC.

Description: Baseline eTariff Filing: Application for Market-Based Rate Authority and Request for Waivers to be effective 9/10/2024.

Filed Date: 7/11/24.

Accession Number: 20240711-5157.

Comment Date: 5 p.m. ET 8/1/24.

Docket Numbers: ER24-2506-000.

Applicants: Solar Star 4, LLC.

Description: Baseline eTariff Filing: Application for Market-Based Rate Authority and Request for Waivers to be effective 9/10/2024.

Filed Date: 7/11/24.

Accession Number: 20240711-5159.

Comment Date: 5 p.m. ET 8/1/24.

Docket Numbers: ER24-2507-000.

Applicants: Wisconsin Public Service Corporation.

Description: § 205(d) Rate Filing: Amended and Restated Rate Schedule No. 87 to be effective 9/11/2024.

Filed Date: 7/12/24.

Accession Number: 20240712-5054.

Comment Date: 5 p.m. ET 8/2/24.

Docket Numbers: ER24-2508-000.

Applicants: Envoy Solar, LLC.

Description: Baseline eTariff Filing: Envoy Solar, LLC MBR Tariff to be effective 9/11/2024.

Filed Date: 7/12/24.

Accession Number: 20240712-5058.

Comment Date: 5 p.m. ET 8/2/24.

Docket Numbers: ER24-2509-000.

Applicants: BCD 2024 Fund 5 Lessee, LLC.

Description: Baseline eTariff Filing: BCD 2024 Fund 5 Lessee, LLC MBR Tariff to be effective 9/11/2024.

Filed Date: 7/12/24.

Accession Number: 20240712-5059.

Comment Date: 5 p.m. ET 8/2/24.

Docket Numbers: ER24-2510-000.

Applicants: Southern California Edison Company.

Description: Tariff Amendment: Termination of City of Long Beach—SERRF GIA & DSA (WDT1443/SA Nos. 1046-1047) to be effective 9/11/2024.

Filed Date: 7/12/24.

Accession Number: 20240712-5062.

Comment Date: 5 p.m. ET 8/2/24.

Docket Numbers: ER24-2511-000.

Applicants: Alabama Power Company, Georgia Power Company, Mississippi Power Company.

Description: Tariff Amendment: Alabama Power Company submits tariff filing per 35.15: Talladega Solar LGIA Termination Filing to be effective 7/12/2024.

Filed Date: 7/12/24.

Accession Number: 20240712-5082.

Comment Date: 5 p.m. ET 8/2/24.

Docket Numbers: ER24-2512-000.

Applicants: FRP Gilchrist County Solar, LLC.

Description: Baseline eTariff Filing: FRP Gilchrist County Solar, LLC Application for MBR Authorization to be effective 9/11/2024.

Filed Date: 7/12/24.

Accession Number: 20240712-5086.

Comment Date: 5 p.m. ET 8/2/24.

Docket Numbers: ER24-2513-000.

Applicants: FRP Columbia County Solar, LLC.

Description: Baseline eTariff Filing: FRP Columbia County Solar, LLC Application for MBR Authorization to be effective 9/11/2024.

Filed Date: 7/12/24.

Accession Number: 20240712-5089.

Comment Date: 5 p.m. ET 8/2/24.

Docket Numbers: ER24-2514-000.

Applicants: FRP Gadsden County Solar, LLC.

Description: Baseline eTariff Filing: Gadsden County Solar, LLC Application for MBR Authorization to be effective 9/11/2024.

Filed Date: 7/12/24.

Accession Number: 20240712-5090.

Comment Date: 5 p.m. ET 8/2/24.

Docket Numbers: ER24-2515-000.

Applicants: LS Power Grid New York Corporation I.

Description: LS Power Grid New York Corporation I submits Informational Filing of 2023 Annual Formula Rate Update and True-Up.

Filed Date: 7/12/24.

Accession Number: 20240712-5110.

Comment Date: 5 p.m. ET 8/2/24.

Docket Numbers: ER24-2516-000.

Applicants: PJM Interconnection, L.L.C.

Description: § 205(d) Rate Filing: Original GIA, Service Agreement No. 7303; AE2-051 to be effective 6/12/2024.

Filed Date: 7/12/24.

Accession Number: 20240712-5125.

Comment Date: 5 p.m. ET 8/2/24.

Docket Numbers: ER24-2517-000.

Applicants: Cube Yadkin Transmission LLC.

Description: Compliance filing: Order Nos. 2023 and 2023—A Compliance Filing and Request for Waiver to be effective 8/11/2024.

Filed Date: 7/12/24.

Accession Number: 20240712-5151.

Comment Date: 5 p.m. ET 8/2/24.

Take notice that the Commission received the following electric securities filings:

Docket Numbers: ES24-42-000.

Applicants: Duquesne Light Company.

Description: Application Under Section 204 of the Federal Power Act for Authorization to Issue Securities of Duquesne Light Company.

Filed Date: 7/12/24.

Accession Number: 20240712-5123.

Comment Date: 5 p.m. ET 8/2/24.

Take notice that the Commission received the following public utility holding company filings:

Docket Numbers: PH24-12-000.

Applicants: Unison Energy, LLC, Tiger Infrastructure Partners Fund III AIV U LP.

Description: Unison Energy, LLC, et al. submits FERC-65A Notice of Change in Fact to Waiver Notification of.

Filed Date: 7/12/24.

Accession Number: 20240712-5128.

Comment Date: 5 p.m. ET 8/2/24.

Docket Numbers: OA04-2-003.

Applicants: MORENCI WATER AND ELECTRIC CO.

Description: Amendment to Prior Applications for Disclaimer of Jurisdiction and Waiver of the Reciprocity Requirement, or in the Alternative, a Waiver of the Requirements of Order Nos. 888 and 889, et al., for the Morenci Water & Electric Company.

Filed Date: 7/10/24.

Accession Number: 20240710-5201.

Comment Date: 5 p.m. ET 7/31/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 12, 2024.
Debbie-Anne A. Reese,
Acting Secretary.

[FR Doc. 2024-15845 Filed 7-17-24; 8:45 am]

BILLING CODE 6717-01-P